DEPARTMENT OF TRANSPORTATION

Federal Aviation Administration

14 CFR Parts 61, 63, and 65

[Docket No. FAA-2009-0923; Special Federal Aviation Regulation No. 100-2]

RIN 2120-AJ54

Relief for U.S. Military and Civilian Personnel Who Are Assigned Outside the United States in Support of U.S. Armed Forces Operations

AGENCY: Federal Aviation Administration (FAA), DOT.

ACTION: Confirmation of effective date.

SUMMARY: This action confirms the direct final rule issued March 4, 2010, which becomes effective June 20, 2010. The rule changes SFAR 100-1 with an expiration date from June 20, 2010, to SFAR 100-2 with an expiration of until further notice.

DATES: The effective date for the direct final rule that published in the Federal Register on March 4, 2010 (75 FR 9763) is confirmed as June 20, 2010.

FOR FURTHER INFORMATION CONTACT: R. Lance Nuckolls, AFS-810, General Aviation and Commercial Division, Flight Standards Service, Federal Aviation Administration, 800 Independence Avenue, SW., Washington, DC 20591; telephone (202) 267-8212.

For legal questions about this SFAR, contact: Michael Chase, AGC-240, Office of Chief Counsel, Regulations Division, Federal Aviation Administration, 800 Independence Avenue, SW., Washington, DC 20591; telephone (202) 267-3110; e-mail to michael.chase@faa.gov.

SUPPLEMENTARY INFORMATION:

Background

The FAA is replacing Special Federal Aviation Regulation 100-1 (SFAR 100-1), with SFAR 100-2 that continues to allow Flight Standards District Offices (FSDOs) to accept expired flight instructor certificates and inspection authorizations for renewals from U.S. military and civilian personnel (U.S. personnel) who are assigned outside the United States in support of U.S. Armed Forces operations. SFAR 100-2 also continues to allow FSDOs to accept expired airman written test reports for certain practical tests from U.S. personnel who are assigned outside the United States in support of U.S. Armed Forces operations. This action is necessary to avoid penalizing U.S. personnel who are unable to meet the regulatory time limits of their flight instructor certificate, inspection authorization, or airman written test report because they are serving outside the United States in support of U.S. Armed Forces operations. The effect of this action is to give U.S. personnel who are assigned outside the United States in support of U.S. Armed Forces operations extra time to meet certain eligibility requirements in the current rules.

The FAA received no comments on Relief for U.S. Military and Civilian Personnel Who Are Assigned Outside the United States in Support of U.S. Armed Forces Operations direct final rule.

Availability of Docket

The complete docket for the direct final rule entitled Relief for U.S. Military and Civilian Personnel Who Are Assigned Outside the United States in Support of U.S. Armed Forces Operations, Docket No. FAA-2009-0923 may be examined at http://www.regulations.gov at any time or go to Docket Operations in Room W12-140 of the West Building, Ground Floor at 1200 New Jersey Avenue, SE., Washington, DC, between 9 a.m. and 5 p.m., Monday through Friday, except Federal holidays.

Conclusion

In consideration that no comments were submitted in response to the direct final rule, the FAA has determined that no further rulemaking action is necessary. SFAR 100-2 remains in effect as adopted.

Issued in Washington, DC, on April 12, 2010.
Pamela Hamilton-Powell,
Director of Rulemaking, ARM-1.

[FR Doc. 2010-8696 Filed 4-15-10; 8:45 am]

BILLING CODE 4910-13-P